ENVIRONMENTAL PROTECTION AGENCY

40 CFR Part 52

[EPA-R04-OAR-2005-AL-0002; FRL-9086-3]

Approval and Promulgation of Implementation Plans: Alabama: Proposed Approval of Revisions to the Visible Emissions Rule and Alternative Proposed Disapproval of Revisions to the Visible Emissions Rule; Informational Notice

AGENCY: Environmental Protection Agency (EPA).

ACTION: Notice of document availability.

SUMMARY: The purpose of this notice is to inform the public that EPA has added a memorandum to the docket to explain the source of information for two exhibits that were provided in the original docket for the rulemaking entitled “Proposed Approval of Revisions to the Visible Emissions Rule and Alternative Proposed Disapproval of Revisions to the Visible Emissions Rule.” The comment period for this proposed rulemaking was originally scheduled to close on November 16, 2009; however, EPA published a subsequent notice in the Federal Register extending the comment period for this proposed rulemaking to December 16, 2009 (74 FR 57978).

ADDRESSES: The hard copy docket is available at the U.S. Environmental Protection Agency, Air, Pesticides and Toxics Management Division, Air Planning Branch, 61 Forsyth Street, SW., Atlanta, Georgia 30303. The electronic docket is available at http://www.regulations.gov. Refer to EPA docket number: “EPA-R04-OAR-2005-AL-0002”.

FOR FURTHER INFORMATION CONTACT: Ms. Lynorae Benjamin, U.S. Environmental Protection Agency, Air, Pesticides and Toxics Management Division, Air Planning Branch; 61 Forsyth Street, SW.; Atlanta, Georgia 30303. Ms. Benjamin can be reached via e-mail at Benjamin.lynorae@epa.gov or phone at (404) 562-9040.

SUPPLEMENTARY INFORMATION: On October 2, 2009, EPA published the “Proposed Approval of Revisions to the Visible Emissions Rule and Alternative Proposed Disapproval of Revisions to the Visible Emissions Rule,” for a 45-day public comment period to November 16, 2009. During this 45-day public comment period, EPA received two requests for further information related to two exhibits provided in the docket for the proposed rulemaking. Specifically, the requesters asked for the source of data for the exhibits numbered: EPA-R04-OAR-2005-AL-0002-0045 & EPA-R04-OAR-2005-AL-0002-0047. As a result of these requests, EPA has prepared a memorandum which provides further information regarding the two aforementioned exhibits, and has placed this memorandum in the docket for this proposed rulemaking for the consideration of other reviewers.

Of further note is that EPA received 3 requests for an extension of the public comment period on the rulemaking entitled “Proposed Approval of Revisions to the Visible Emissions Rule and Alternative Proposed Disapproval of Revisions to the Visible Emissions Rule.” The comment period for this proposed rulemaking was originally scheduled to close on November 16, 2009; however, EPA published a subsequent notice in the Federal Register extending the comment period for this proposed rulemaking to December 16, 2009.

Dated: November 11, 2009.
J. Scott Gordon,
Acting Regional Administrator, Region 4.

[FR Doc. E9-28420 Filed 11-27-09; 8:45 am]

BILLING CODE 6560-50-P